DEPARTMENT OF HOMELAND SECURITY

U.S. Customs and Border Protection

[Docket No. USCBP-2012-0018]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on May 22, 2012, in Savannah, GA. The meeting will be open to the public. As an alternative to on-site attendance, U.S. Customs and Border Protection (CBP) will also offer a live webcast of the COAC meeting via the Internet.

DATES: COAC will meet on Tuesday, May 22, 2012 from 1:00 p.m. to 5:30 p.m. Please note that the meeting may close early if the committee has completed its business.

Registration: If you plan on attending via webcast, please register online at https://apps.cbp.gov/te_registration/?w=76 by close-of-business on May 18, 2012. Please feel free to share this information with interested members of your organizations or associations. If you plan on attending on-site, please register either online at https://apps.cbp.gov/te_registration/?w=75 or by email to tradeevents@dhs.gov, or by fax to 202-325-4290 by close-of-business on May 18, 2012.

If you have completed an online webcast registration and wish to cancel your registration, you may do so at https://apps/cbp.gov/te_registration/cancel.asp?w=76.

If you have completed an online on-site registration and wish to cancel your registration, you may do so at https://apps.cbp.gov/te_registration/cancel.asp?w=75.

ADDRESSES: The meeting will be held at Hyatt Regency Savannah Hotel on the Historic Riverfront, Two West Bay Street, Savannah, GA 31401, in Ballroom A&B. All visitors report to the foyer of Ballroom A&B in the hotel.

For information on facilities or services for individuals with disabilities or to request special assistance at the meeting, contact Ms. Wanda Tate, Office of Trade Relations, U.S. Customs and Border Protection at 202-344-1661 as soon as possible.

To facilitate public participation, we are inviting public comment on the issues to be considered by the committee as listed in the “Agenda” section below.

Comments must be submitted in writing no later than May 14, 2012, and must be identified by USCBP-2012-0018 and may be submitted by one of the following methods:

• Federal eRulemaking Portal: http://www.regulations.gov. Follow the instructions for submitting comments.

• Email: Tradeevents@dhs.gov. Include the docket number in the subject line of the message.

• Fax: 202-325-4290.

• Mail: Ms. Wanda Tate, Office of Trade Relations, U.S. Customs and Border Protection, 1300 Pennsylvania Avenue NW., Room 5.2A, Washington, DC 20229.

Instructions: All submissions received must include the words “Department of Homeland Security” and the docket number for this action. Comments received will be posted without alteration at http://www.regulations.gov, including any personal information provided. Do not submit personal information to this docket.

Docket: For access to the docket to read background documents or comments received by the COAC, go to http://www.regulations.gov.

There will be two public comment periods held during the meeting on May 22, 2012. On-site speakers are requested to limit their comments to two (2) minutes or less to facilitate greater participation. Contact the individual listed below to register as a speaker. Please note that the public comment period for on-site speakers may end before the time indicated on the schedule that is posted on the CBP web page at the time of the meeting. Comments can also be made electronically anytime during the COAC meeting webcast, but please note that webcast participants will not be able to provide oral comments. Comments submitted electronically will be read into the record during the two (2) public comment periods.

FOR FURTHER INFORMATION CONTACT: Ms. Wanda Tate, Office of Trade Relations, U.S. Customs and Border Protection, 1300 Pennsylvania Avenue NW., Room 5.2A, Washington, DC 20229; telephone 202-344-1440; facsimile 202-325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS or the Department of the Treasury.

Agenda

The COAC will hear from the following subcommittees on the topics listed below and then will review, deliberate, and formulate recommendations on how to proceed on those topics:

• The work of the Land Border Security Subcommittee: Recommendations on the expansion of the Customs-Trade Partnership Against Terrorism (C-TPAT) Program and the National Strategy for Global Supply Chain Security.

• The work of the Trade Facilitation Subcommittee: Recommendations on CBP's Trade Transformation initiatives.

• The work of the One U.S. Government at the Border Subcommittee: Updates on subcommittee discussions with the Food and Drug Administration (FDA), the Environmental Protection Agency (EPA), the Food Safety Inspection Service (FSIS), and the Consumer Product Safety Commission (CPSC).

• The work of the Role of the Broker subcommittee: Recommendation to continue educational webinars on current topics for the trade community.

Prior to the COAC taking action on any of these topics of the four above-mentioned subcommittees, members of the public will have an opportunity to provide comments orally or, for comments submitted electronically during the meeting, by reading the comments into the record.

The COAC will also receive an update and discuss the following Initiatives and Subcommittee topics that were discussed at its February 21, 2012 meeting:

• The National Strategy for Global Supply Chain Security as it relates to the Committee's effort to solicit, consolidate, and provide input to DHS sector and stakeholders on the implementation of the National Strategy.

• The Automated Commercial Environment (ACE) and International Trade Data System (ITDS).

• The Air Cargo Security Subcommittee work on the Air Cargo Advance Screening (ACAS) pilot.

• The Bond Subcommittee work on proposed modifications to the CBP Form 5106; input on single transaction bond centralization; and liquidated damages mitigation guidelines.

• The Intellectual Property Rights Enforcement Subcommittee work on the distribution chain management project.

• The Anti-Dumping/Countervailing Duties Subcommittee work on educational webinars for the trade community and feedback on CBP's Draft 5-year Anti-Dumping/Countervailing Duties Enforcement Strategy.

Dated: May 1, 2012.
Maria Luisa O'Connell,
Senior Advisor for Trade, Office of Trade Relations.

[FR Doc. 2012-10837 Filed 5-3-12; 8:45 am]

BILLING CODE 9111-14-P